DEPARTMENT OF TRANSPORTATION

Federal Aviation Administration

14 CFR Part 39

[Docket No. FAA-2006-25584; Directorate Identifier 2000-NE-62-AD; Amendment 39-14733; AD 2006-17-12]

RIN 2120-AA64

Airworthiness Directives; Rolls-Royce plc RB211 Series Turbofan Engines; Correction.

AGENCY: Federal Aviation Administration, DOT.

ACTION: Final rule; correction.

SUMMARY: This document makes corrections to Airworthiness Directive (AD) 2006-17-12. That AD applies to Rolls-Royce plc RB211 series turbofan engines. We published AD 2006-17-12 in the Federal Register on August 23, 2006 (71 FR 49339). An incorrect engine model number exists in the applicability paragraph and in the title of Table 5. Also, an incorrect serial number appears in Table 1. This document corrects these numbers. In all other respects, the original document remains the same.

DATES: Effective Date: Effective January 18, 2007.

FOR FURTHER INFORMATION CONTACT: Ian Dargin, Aerospace Engineer, Engine Certification Office, FAA, Engine and Propeller Directorate, 12 New England Executive Park, Burlington, MA, 01803; telephone (781) 238-7178; fax (781) 238-7199.

SUPPLEMENTARY INFORMATION: A final rule AD, FR Doc. E6-13910, that applies to Rolls-Royce plc RB211 series turbofan engines was published in the Federal Register on August 23, 2006 (71 FR 49339). The following corrections are needed:

§ 39.13 [Corrected]

On page 49340, in the third column, in applicability paragraph (c), in the fourth line, “RB211-535E4-C” is corrected to read “RB211-535E4-C-37”. Also, on page 49341, in Table 1, in the fourth column, in the last line, “WGQDY90005” is corrected to read “WGQDY0005”. Also, on page 49342, in the first column, in the Table 5 title, “RB211-02” is corrected to read “RB211-22B-02”.

Issued in Burlington, MA, on January 10, 2007.
Francis A. Favara,
Manager, Engine and Propeller Directorate, Aircraft Certification Service.

[FR Doc. E7-497 Filed 1-17-07; 8:45 am]

BILLING CODE 4910-13-P